DEPARTMENT OF THE INTERIOR

Bureau of Land Management

[LLWY920000.L14300000.ET0000; WYW 28908]

Public Land Order No. 7791; Extension of Public Land Order No. 6928; Wyoming

AGENCY: Bureau of Land Management, Interior.

ACTION: Public land order.

SUMMARY: This Order extends the withdrawal created by Public Land Order No. 6928 for an additional 20-year period. This extension is necessary to continue the protection of the significant capital investments and improvements made by the U.S. Forest Service associated with the Crandall Creek Administrative Site.

DATE: Effective Date: May 29, 2012.

FOR FURTHER INFORMATION CONTACT: Daniel R. Aklufi, U.S. Forest Service, Region 2, Supervisors Office, 808 Meadow Lane Avenue, Cody, Wyoming 82414, 307-578-5151, or email daklufi@fs.fed.us, or Diane Schurman, Bureau Land Management, Wyoming State Office, 5353 Yellowstone Road, Cheyenne, Wyoming 82009, 307-775-6189, or email dschurma@blm.gov. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The purpose for which this withdrawal was made requires this extension in order to continue to protect U.S. Forest Service significant capital improvements associated with the Crandall Creek Administrative Site. The withdrawal extended by this Order will expire on May 28, 2032, unless as a result of a review conducted prior to the expiration date pursuant to Section 204(f) of the Federal Land Policy and Management Act of 1976, 43 U.S.C. 1714(f), the Secretary of the Interior determines that the withdrawal shall be further extended.

Order

By virtue of the authority vested in the Secretary of the Interior by Section 204 of the Federal Land Policy and Management Act of 1976, 43 U.S.C. 1714, it is ordered as follows:

Public Land Order No. 6928 (57 FR 22659, (1992)), which withdrew 30 acres of National Forest System land from location and entry under the United States mining laws (30 U.S.C. Ch. 2), but not from leasing under the mineral leasing laws, to protect the U.S. Forest Service's capital investments at the Crandall Creek Administrative Site, is hereby extended for an additional 20-year period until May 28, 2032.

Authority: 43 CFR 2310.3-3(b)(1).

Dated: May 24, 2012.
Anne J. Castle,
Assistant Secretary—Water and Science.

[FR Doc. 2012-13605 Filed 6-4-12; 8:45 am]

BILLING CODE 3410-11-P